DEPARTMENT OF ENERGY

Federal Energy Regulatory Commission

Combined Notice of Filings #2

Take notice that the Commission received the following electric rate filings:

Docket Numbers: ER17-1594-002.

Applicants: Archer Energy, LLC.

Description: Tariff Amendment: Second Amendment to Application for Market Based Rate Authority to be effective 8/15/2017.

Filed Date: 7/27/17.

Accession Number: 20170727-5084.

Comments Due: 5 p.m. ET 8/10/17.

Docket Numbers: ER17-1731-001.

Applicants: Entergy Texas, Inc., Entergy Louisiana, LLC.

Description: Tariff Amendment: ELL-ETI Big Cajun II Supplemental Reactive to be effective 8/1/2017.

Filed Date: 7/27/17.

Accession Number: 20170727-5093.

Comments Due: 5 p.m. ET 8/17/17.

Docket Numbers: ER17-2032-002.

Applicants: Southwest Power Pool, Inc.

Description: Tariff Amendment: 2198R22 Kansas Power Pool NITSA NOA to be effective 6/1/2017.

Filed Date: 7/27/17.

Accession Number: 20170727-5119.

Comments Due: 5 p.m. ET 8/17/17.

Docket Numbers: ER17-2093-001.

Applicants: PJM Interconnection, L.L.C.

Description: Tariff Amendment: Errata to Resubmit Original SA No. 4753—NITSA among PJM and Buckeye to be effective 6/1/2014.

Filed Date: 7/27/17.

Accession Number: 20170727-5113.

Comments Due: 5 p.m. ET 8/17/17.

Docket Numbers: ER17-2157-000.

Applicants: PJM Interconnection, L.L.C.

Description: § 205(d) Rate Filing: Original Serv. Agmt. Nos. 4746, 4747, 4748; Queue Nos. AC1-060, AC1-061, AC1-062 to be effective 6/27/2017.

Filed Date: 7/27/17.

Accession Number: 20170727-5060.

Comments Due: 5 p.m. ET 8/17/17.

Docket Numbers: ER17-2158-000.

Applicants: Alcoa Power Generating Inc.

Description: § 205(d) Rate Filing: Revised Market-Based Rate Tariff to be effective 9/26/2017.

Filed Date: 7/27/17.

Accession Number: 20170727-5077.

Comments Due: 5 p.m. ET 8/17/17.

Docket Numbers: ER17-2159-000.

Applicants: Alcoa Power Marketing LLC.

Description: § 205(d) Rate Filing: Revised Market-Based Rate Tariff to be effective 9/26/2017.

Filed Date: 7/27/17.

Accession Number: 20170727-5078.

Comments Due: 5 p.m. ET 8/17/17.

Docket Numbers: ER17-2160-000.

Applicants: NorthWestern Corporation.

Description: Tariff Cancellation: Notice of Cancellation: SA 798, Agreement with Upper Missouri G&T Electric Co-op to be effective 7/28/2017.

Filed Date: 7/27/17.

Accession Number: 20170727-5082.

Comments Due: 5 p.m. ET 8/17/17.

Docket Numbers: ER17-2161-000.

Applicants: Michigan Electric Transmission Company, LLC.

Description: § 205(d) Rate Filing: Filing of a De-Energization Agreement to be effective 9/25/2017.

Filed Date: 7/27/17.

Accession Number: 20170727-5096.

Comments Due: 5 p.m. ET 8/17/17.

Docket Numbers: ER17-2162-000.

Applicants: SunE Beacon Site 2 LLC.

Description: Baseline eTariff Filing: Application for Market Based Rate to be effective 8/31/2017.

Filed Date: 7/27/17.

Accession Number: 20170727-5109.

Comments Due: 5 p.m. ET 8/17/17.

Docket Numbers: ER17-2163-000.

Applicants: SunE Beacon Site 5 LLC.

Description: Baseline eTariff Filing: Application for Market Based Rate to be effective 8/31/2017.

Filed Date: 7/27/17.

Accession Number: 20170727-5112.

Comments Due: 5 p.m. ET 8/17/17.

Docket Numbers: ER17-2164-000.

Applicants: ISO New England Inc., New England Power Pool Participants Committee.

Description: § 205(d) Rate Filing: Revisions to Implement Full Integration of Demand Response to be effective 6/1/2018.

Filed Date: 7/27/17.

Accession Number: 20170727-5116.

Comments Due: 5 p.m. ET 8/17/17.

Docket Numbers: ER17-2165-000.

Applicants: PJM Interconnection, L.L.C.

Description: § 205(d) Rate Filing: First Revised Service Agreement No. 2848, Queue No. AC1-063 to be effective 6/27/2017.

Filed Date: 7/27/17.

Accession Number: 20170727-5118.

Comments Due: 5 p.m. ET 8/17/17.

Docket Numbers: ER17-2166-000.

Applicants: PJM Interconnection, L.L.C.

Description: § 205(d) Rate Filing: Interconnection Service Agreement No. 2005, Queue No. AA2-140 to be effective 6/29/2017.

Filed Date: 7/27/17.

Accession Number: 20170727-5122.

Comments Due: 5 p.m. ET 8/17/17.

Docket Numbers: ER17-2167-000.

Applicants: Southern California Edison Company.

Description: § 205(d) Rate Filing: Amended LA Stanton Energy Reliability Center BESS Project SA No. 968 to be effective 7/11/2017.

Filed Date: 7/27/17.

Accession Number: 20170727-5134.

Comments Due: 5 p.m. ET 8/17/17.

Docket Numbers: ER17-2168-000.

Applicants: PJM Interconnection, L.L.C.

Description: § 205(d) Rate Filing: Wholesale Market Participation Agreement No. 4760; Queue AC1-147 to be effective 7/24/2017.

Filed Date: 7/27/17.

Accession Number: 20170727-5136.

Comments Due: 5 p.m. ET 8/17/17.

Docket Numbers: ER17-2169-000.

Applicants: PacifiCorp.

Description: Notice of Termination of the Long-Term Power Sale Agreement (Rate Schedule No. 433) of PacifiCorp.

Filed Date: 7/27/17.

Accession Number: 20170727-5137.

Comments Due: 5 p.m. ET 8/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2017.
Nathaniel J. Davis, Sr.,
Deputy Secretary.

[FR Doc. 2017-16225 Filed 8-1-17; 8:45 am]

BILLING CODE 6717-01-P